FEDERAL COMMUNICATIONS COMMISSION

47 CFR Parts 2 and 25

[IB Docket No. 02-364; FCC No. 04-134]

Spectrum Sharing Plan Among Non-Geostationary Satellite Orbit Mobile Satellite Service Systems in the 1.6/2.4 GHz Bands

AGENCY: Federal Communications Commission.

ACTION: Proposed rule.

SUMMARY: This document solicits comment on redistributing additional spectrum in the 1.6 GHz band (L-band or Big LEO band). Specifically, the Federal Communications Commission (Commission) initiated the Further Notice of Proposed Rulemaking (FNPRM) in this proceeding to determine whether mobile-satellite service (MSS) operators using different technologies could share additional spectrum in the L-band.

DATES: Comments are due September 8, 2004, and reply comments are due September 23, 2004.

ADDRESSES: Federal Communications Commission, 445 12th Street, SW., Room TW-B204, Washington, DC 20554.

FOR FURTHER INFORMATION CONTACT: Jennifer Gorny, Howard Griboff, or James Ball, Policy Division, International Bureau, (202) 418-1460.

SUPPLEMENTARY INFORMATION: This is a summary of the Commission's FNPRM in IB Docket No. 02-364, FCC No. 04-134, adopted June 10, 2004, and released on July 16, 2004. The full text of this document is available for public inspection and copying during normal reference room hours at the FCC Reference Information Center, 445 12th Street, SW., Room CY-A257, Washington, DC 20554. The document is also available for download over the Internet at http://hraunfoss.fcc.gov/edocs_public/ attachmatch/FCC-04-134A1.doc. The complete text may also be purchased from the Commission's copy contractor, Best Copy and Printing, in person at 445 12th Street, SW., Room CY-B402, Washington, DC 20554, via telephone at (202) 488-5300, via facsimile at (202) 488-5563, or via e-mail at Commission@bcpiweb.com.

Comments may be filed using the Commission's Electronic Comment Filing System (ECFS) or by filing paper copies. See Electronic Filing of Documents in Rulemaking Proceedings, 63 FR 24121 (1998). Comments filed through the ECFS can be sent as an electronic file via the Internet to http://www.fcc.gov/e-file/ecfs.html. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. Filings can be sent by hand or messenger delivery, by commercial overnight courier, or by first-class or overnight U.S. Postal Service mail. The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

Summary of Further Notice of Proposed Rulemaking

On July 16, 2004, the Commission released a Report and Order, Fourth Report and Order and FNPRM in this proceeding. The Report and Order and Fourth Report and Order relating to this proceeding is published elsewhere in this issue of the Federal Register. The FNPRM seeks comment on proposals for reassigning or reallocating a portion of spectrum in the Big LEO L-band. In the attached Report and Order, we adopt provisions that permit time division multiple access (TDMA) and code division multiple access (CDMA) MSS operators to share 3.1 megahertz of spectrum at 1618.25-1621.35 MHz, based on the record before us. In adopting these provisions, we have approved a sharing plan that provides the opportunity for the TDMA MSS operator to have greater capacity to serve its customers' needs, while at the same time not causing significant harm to the CDMA MSS operator's ability to serve its current and future customers. We recognize, however, that the current TDMA MSS system is capable of operating on frequencies as low as 1616 MHz, and thus an opportunity for further sharing between the TDMA and CDMA MSS operators could exist at 1616-1618.25 MHz. We issue this FNPRM in IB Docket No. 02-364, to explore whether and how sharing an additional 2.25 MHz in the L-band may be possible.

In particular, parties should discuss how to ensure that shared use of this band does not adversely impact the ability of both CDMA and TDMA MSS operators to provide a wide-range of services, including aviation services. Second, we seek comment on whether and how sharing of this spectrum by TDMA and CDMA MSS operators would impact CDMA MSS operators' ability to provide viable ancillary terrestrial component services. Further, we seek comment on how any additional sharing requirements might impact the ability of Globalstar, as the CDMA MSS operator, to provide global communications. For example, Globalstar's French license starts at 1615 MHz, and Globalstar's Italian and Russian licenses are limited to frequencies above 1616 MHz.

We also seek comment on what benefits might be gained by permitting additional sharing and how any technical limitations should be weighed in comparison against these benefits. We are particularly interested in any alternative sharing approaches that take into account any technical limitations and that would permit us to make the most efficient use of this spectrum.

Procedural Issues

Initial Regulatory Flexibility Certification

The Regulatory Flexibility Act (RFA) requires that an agency prepare a regulatory flexibility analysis for notice-and-comment rulemaking proceedings, unless the agency certifies that “the rule will not, if promulgated, have a significant economic impact on a substantial number of small entities.” The RFA generally defines “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA). The SBA has developed a small business size standard for Satellite Telecommunications, which consists of all such companies having $12.5 million or less in annual revenue.

The Commission established the original Big LEO band plan in 1994 and has modified that plan in the attached Report and Order. In that Report and Order, the Commission allows the TDMA and CDMA MSS operators to share 3.1 megahertz in the L-band at 1618.25-1621.35 MHz. The spectrum sharing plan in the L-band should promote the efficient use of spectrum by increasing the number of licensees that use the spectrum. We recognize, however, that Iridium, the current TDMA MSS operator, is capable of operating in spectrum as far down as 1616 MHz. Thus, the purpose of the attached FNPRM is to initiate and conduct a review of whether it would be feasible for the TDMA and CDMA MSS operators to share an additional 2.25 megahertz of spectrum at 1616-1618.25 MHz. This proposed band plan change is designed to further improve spectral efficiency within the L-band.

The proposal in the FNPRM impacts only Big LEO MSS licensees and currently, only two MSS licensees are operating in Big LEO spectrum. We do not consider these entities to be small businesses because small businesses would not likely be able to satisfy the capital requirements for launching and operating these satellite systems. Thus, the change we propose will not have a substantial economic impact on small entities.

The Commission therefore certifies, pursuant to the RFA, that the proposal in this FNPRM, if adopted, will not have a significant economic impact on a substantial number of small entities. If commenters believe that the proposals discussed in the FNPRM require additional RFA analysis, they should include a discussion of these issues in their comments and additionally label them as RFA comments. The Commission will send a copy of the FNPRM, including a copy of this Initial Regulatory Flexibility Certification, to the Chief Counsel for Advocacy of the SBA. In addition, a copy of the FNPRM and this initial certification will be published in the Federal Register.

Ordering Clauses

Pursuant to sections 4(i), 7, 302(a), 303(c), 303(e), 303(f) and 303(r) of the Communications Act of 1934, as amended, 47 U.S.C. 154(i), 157, 302(a), 303(c), 303(e), 303(f) and 303(r), the FNPRM is adopted.

The Commission's Consumer Information Bureau, Reference Information Center, shall send a copy of this FNPRM, including the Initial Regulatory Flexibility Certification, to the Chief Counsel for Advocacy of the Small Business Administration.

Federal Communications Commission.
Marlene H. Dortch,
Secretary.

[FR Doc. 04-18147 Filed 8-6-04; 8:45 am]

BILLING CODE 6712-01-P